DEPARTMENT OF HEALTH AND HUMAN SERVICES

National Institutes of Health

Center for Scientific Review; Amended Notice of Meeting

Notice is hereby given of a change in the meeting of the Mammalian Genetics Study Section, October 23, 2003, 9 a.m. to October 24, 2003, 1 p.m., One Washington Circle Hotel, One Washington Circle, Washington, DC, 20037 which was published in the Federal Register on September 16, 2003, 68 FR 54235-54237.

The meeting will end at 12 p.m. on October 24, 2003. The meeting dates and location remain the same. The meeting is closed to the public.

Dated: September 29, 2003.
LaVerne Y. Stringfield,
Director, Office of Federal Advisory Committee Policy.

[FR Doc. 03-25172 Filed 10-02-03; 8:45 am]

BILLING CODE 4140-01-M